DEPARTMENT OF DEFENSE

Office of the Secretary

[Docket ID DoD-2013-OS-0191]

Proposed Collection; Comment Request

AGENCY: Defense Logistics Agency (DLA), DoD.

ACTION: Notice.

SUMMARY: In compliance with Section 3506(c)(2)(A) of the Paperwork Reduction Act of 1995, the Defense Logistics Agency (DLA) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 12, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Defense Logistics Agency, Security and Emergency Services Suite 3533, ATTN: Mr. Gregory Govan, Fort Belvoir, VA 22060 or call Security and Emergency Services at 703-767-5400.

SUPPLEMENTARY INFORMATION:

Title; Associated Form; and OMB Number: Physical Access Control System (Diamond II) for DLA Headquarters. OMB 0704-TBD.

Needs and Uses: The information collection requirement ensures that only those Department of Defense employees assigned or need unescorted access to the Defense Logistics Agency (DLA), (Military, Civilians, Contractors, and other DoD affiliates) are granted unescorted access to the DLA Headquarters McNamara Complex.

Affected Public: Department of Defense employees assigned to DLA and contractors supporting DLA.

Annual Burden Hours: 3750.

Number of Respondents: 15000.

Responses per Respondent: 1.

Annual Responses: 15000.

Average Burden per Response: 15 minutes.

Frequency: On occasion.

Security Professionals (security administrators, security assistants) process the information ensuring personnel requesting and/or requiring unescorted access into the DLA Headquarters McNamara Complex (DLA HQC) are granted the proper access as required. Basic identifying information is collected from the individuals' which includes some biographical data. Additional information may also be collected (such as contact information, vehicle information, organization affiliation, etc.) but may not be required to grant an individual unescorted access to the DLA HQC.

Dated: September 6, 2013.
Aaron Siegel,
Alternate OSD Federal Register Liaison Officer, Department of Defense.

[FR Doc. 2013-22074 Filed 9-10-13; 8:45 am]

BILLING CODE 5001-06-P